DEPARTMENT OF ENERGY

Federal Energy Regulatory Commission

[Docket No. RP03-356-001]

Southern Star Central Gas Pipeline, Inc.; Notice of Compliance Filing

October 30, 2003.

Take notice that on October 27, 2003, Southern Star Central Gas Pipeline, Inc. (Southern Star) tendered for filing as part of its FERC Gas Tariff, Original Volume No. 1, the tariff sheets listed on Appendix A to the filing, to become effective November 1, 2003.

Southern Star states that the purpose of this filing is to comply with the Commission's Order dated October 6, 2003 permitting Southern Star to become a daily allocation pipeline.

Southern Star states that copies of the transmittal letter and appendices are being mailed to Southern Star's jurisdictional customers and interested state commissions, as well as those parties appearing on the official service list for this docket.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. This filing is available for review at the Commission in the Public Reference Room or may be viewed on the Commission's Web site at http://www.ferc.gov using the “eLibrary link.” Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the “e-Filing” link.

Magalie R. Salas,
Secretary.

[FR Doc. E3-00175 Filed 11-4-03; 8:45 am]

BILLING CODE 6717-01-P